DEPARTMENT OF TRANSPORTATION

Federal Aviation Administration

Notice of Opportunity for Public Comment on Release of property acquired as Federal Government Surplus at Waycross—Ware County Airport; Waycross, GA

AGENCY: Federal Aviation Administration (FAA), DOT.

ACTION: Notice.

SUMMARY: Under the provisions of Title 49, U.S.C. Section 47107(h)(2), notice is being given that the FAA is considering a request from the County of Ware to waive the requirement that approximately 0.102—acres of airport property, located at the Waycross—Ware County Airport, be used for aeronautical purposes.

DATES: Comments must be received on or before July 27, 2007.

ADDRESSES: Comments on this notice may be mailed or delivered in triplicate to the FAA at the following address: Atlanta Airports District Office, Attn: John Marshall, Program Manager, 1701 Columbia Ave., Suite 2-260, Atlanta, GA 30337-2747.

In addition, one copy of any comments submitted to the FAA must be mailed or delivered to Mr. Jimmy Brown, Airport Manager for Waycross—Ware County Airport at the following address: 3395 Harris Rd, Suite 300, Waycross GA, 31503 (912) 287-4394.

FOR FURTHER INFORMATION CONTACT: John Marshall, Program Manager, Atlanta Airports District Office, 1701 Columbia Ave., Suite 2-260, Atlanta, GA 30337-2747 (404) 305-7153. The application may be reviewed in person at this same location.

SUPPLEMENTARY INFORMATION: The FAA is reviewing an application by the County of Ware to release approximately 0.102 acres of airport property at the Waycross—Ware County Airport. The property consists of one parcel located on the East side of the airport adjoining the West side of the Ware State Prison property. The exact location of the property is described by the metes and bounds which follow at the end of this section. The proposed use of the property is for parking at the Ware State Prison training facility. The property was acquired from the Federal Government as surplus property. This property is currently shown on the approved Airport Layout Plan as aeronautical use land; however the property is currently not being used for aeronautical purposes and the proposed use of this property is compatible with airport operations.

Any person may inspect the application in person at the FAA office listed above under FOR FURTHER INFORMATION CONTACT. In addition, any person may, upon request, inspect the application, notice and other documents germane to the request in person at the Ware County government officers.

Metes and Bounds: Beginning at the intersection of the centerlines of Highway US 1—Business (aka Alma Highway) and of Airport Road; run thence, South 41 degrees-31 minutes-32 seconds West, for a distance of 2339.50 feet to the point of BEGINNING; run thence, South 03 degrees-15 minutes-27 seconds East, for a distance of 133.67 feet; run thence, North 47 degrees-03 minutes-36 seconds West, for a distance of 96.45 feet; run thence North 42 degrees-55 minutes-46 seconds East, for a distance of 92.52 feet to the point of BEGINNING, having an area of 4,461.25 square feet, 0.102 acres.

Issued in Atlanta, Georgia on June 7, 2006.
Scott L. Seritt,
Manager, Atlanta Airports District Office, Southern Region.

[FR Doc. 07-3131 6-26-07; 8:45 am]

BILLING CODE 4910-13-M